DEPARTMENT OF THE INTERIOR

Bureau of Land Management

[NM-510-1610-DQ]

Notice of Availability of Special Status Species Proposed Resource Management Plan Amendment and Final Environmental Impact Statement, New Mexico

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Special Status Species Proposed Resource Management Plan Amendment (RMPA)/Final Environmental Impact Statement (EIS) for portions of the Carlsbad and Roswell Field Offices in New Mexico.

DATES: The BLM Planning Regulations (43 CFR 1610.5-2) state that any person who participated in the planning process, and has an interest which is or may be adversely affected, may protest the BLM's approval or amendment of a RMP. You may file a protest within 30 days of the date that the Environmental Protection Agency publishes their Notice of Availability in the Federal Register. Instructions for filing of protests are described in the Dear Reader letter in the front of the Special Status Species Proposed RMPA/Final EIS and in the Supplementary Information section of this notice.

ADDRESSES: For additional information on how to file a protest, refer to the Supplementary Information section below.

FOR FURTHER INFORMATION CONTACT: Howard Parman, BLM, Pecos District Office, 2909 West Second Street, Roswell, New Mexico 88201. To receive a copy of the document, contact the BLM at the above address or call 505-627-0272 during regular business hours (8 a.m. to 4:30 p.m.), Monday through Friday, except holidays.

SUPPLEMENTARY INFORMATION: The planning area for the Special Status Species Proposed RMPA/Final EIS, which includes approximately 850,000 acres of BLM-administered public lands and 1.15 million acres of Federal minerals, is located in Chaves, Eddy, Lea, and Roosevelt Counties, New Mexico. A map of the planning area is available on the BLM New Mexico Web site (http://www.nm.blm.gov). The BLM-administered public lands within the planning area are currently managed under interim management guidelines issued on August 5, 2004, in accordance with the decisions in the 1988 Carlsbad RMP, as amended, and the 1997 Roswell RMP. The BLM will continue to manage these lands in accordance with the interim management guidelines until the RMPA is completed and a Record of Decision is signed.

The purpose of the Proposed RMPA/Final EIS is to amend the existing RMPs, to protect and enhance habitat for the lesser prairie chicken and sand dune lizard while allowing other uses to continue. The Proposed RMPA/Final EIS documents the direct, indirect, and cumulative environmental impacts of six alternatives for BLM-administered public lands within the planning area. Issues related to possible management direction and planning decisions (not in priority order) include: development of energy resources, special management designation, special status species management, livestock grazing, and off-highway vehicle designations.

The Draft RMPA/EIS was released to the public for a 90-day comment period on October 20, 2006. The BLM hosted public meetings in Roswell, Carlsbad, Artesia, and Hobbs, New Mexico, and Midland, Texas, to answer questions about the document, as well as to solicit comments from the public. Public comments on the Draft RMPA/EIS are on file and available for public review at the address listed above.

Six alternatives were identified in the Draft RMPA/EIS:

• The No Action Alternative: represents the continuation of existing management plans, policies, and decisions as established by the current RMPs.

• Alternative A: Adopts the portions of the Conservation Strategy developed by the Southeast New Mexico Lesser Prairie Chicken Working Group that applies to public lands and Federal minerals.

• Alternative B (BLM's Preferred Alternative): Represents the Conservation Strategy and adds emphasis to sand dune lizard habitat and surface reclamation.

• Alternative C: Represents the continuation of Interim Management, originally put in place by the BLM (August 2004) to preserve management options in the Planning Area.

• Alternative D: Focuses management efforts on preserving occupied habitat.

• Alternative E: Focuses management efforts of preserving lesser prairie-chicken habitat through the designation of an area of critical environmental concern.

In the Proposed RMPA/Final EIS, the BLM has selected Alternative B, the Preferred Alternative in the Draft RMPA, as its Proposed Plan. Comments on the Draft RMPA/EIS received from the public and internal BLM review comments were incorporated into the Proposed Plan. Public comments resulted in the addition of clarifying text, but did not significantly change the proposed land use decisions in the Preferred Alternative. The Proposed Plan represents the portions of the strategy developed by the Southeast New Mexico Lesser Prairie Chicken Working Group that apply to public lands and Federal minerals, and adds emphasis to sand dune lizard habitat and surface reclamation. Copies of the Special Status Species Proposed RMPA/Final EIS have been sent to affected Federal, State, and local government agencies and to interested parties. A copy of the Special Status Species Proposed RMPA/Final EIS is available for review via the internet from a link at http://www.nm.blm.gov, or at the BLM Roswell Field Office, 2909 West Second Street, Roswell, New Mexico, and the Carlsbad Field Office, 620 East Greene Street, Carlsbad, New Mexico. Electronic (on CD-ROM) and paper copies may also be obtained by contacting Howard Parman at the aforementioned address and phone number.

Instructions for filing a protest with the Director of the BLM regarding the Proposed RMPA/Final EIS may be found at 43 CFR 1610.5-2. A protest may only raise those issues which were submitted for the record during the planning process. E-mail and faxed protests will not be accepted as valid, unless the protesting party also provides the original letter by regular mail or other delivery service postmarked by the close of the protest period. Under these conditions, the BLM will consider the e-mail or faxed protest as an advance copy, and it will receive full consideration. If you wish to provide us with such advance notification, please direct faxed protests to the attention of Brenda Hudgens-Williams, Protest Coordinator, at (202) 452-5112, and e-mails to bhudgens@blm.gov. Please direct the follow-up letter to the appropriate address provided below.

The protest must contain:

1. The name, mailing address, telephone number, and interest of the person filing the protest.

2. A statement of the part or parts of the proposed plan and the issues being protested.

3. A copy of all documents addressing the issue(s) that the protesting party submitted during the planning process of a statement to the date they were discussed for the record.

4. A concise statement explaining why the protestor believes the State Director's decision is wrong.

All protests must be in writing and must be sent to the following address via regular mail or other delivery service: Regular Mail, Director 210, Attention: Brenda Williams, P.O. Box 66538, Washington, DC 20035. Overnight Mail, Director 210, Attention: Brenda Williams, 1620 L Street, NW., Suite 1075, Washington, DC 20236.

Before including your address, phone number, e-mail address, or other personal identifying information in your comment, you should be aware that your entire comment—including your personal identifying information—may be made publicly available at any time. While you can ask us to withhold your personal identifying information from public review, we cannot guarantee that we will be able to do so.

The BLM Director will promptly render a decision on the protests. The decision will be in writing and will set forth the reasons for the decision. The protest decision will be sent to the protesting party by Certified Mail, Return Receipt Requested. The decision of the Director will be the final decision of the Department of the Interior. The State Director will sign the Record of Decision for the Special Status Species RMPA once the protests are resolved.

Linda S.C. Rundell,
New Mexico State Director.

[FR Doc. E7-21510 Filed 11-1-07; 8:45 am]

BILLING CODE 4310-GG-P